DEPARTMENT OF COMMERCE

International Trade Administration

Charter Renewal of the Industry Trade Advisory Committees (ITACs); Request for Nominations

AGENCY: International Trade Administration, Manufacturing and Services.

ACTION: Notice of Renewal of the Charters and Request for Nominations.

SUMMARY: On February 17, 2006, the Secretary of Commerce and the United States Trade Representative (USTR) renewed the charters of the 16 Industry Trade Advisory Committees (ITACs) and the Committee of Chairs of the ITACs for a four-year term to expire on February 17, 2010. The ITACs advise the USTR and the Secretary on trade matters. There are currently opportunities for membership on each of these Committees, including opportunities to serve as environmental representatives or public health or health care community representatives on select ITACs. Nominations will be accepted for current vacancies and those that occur throughout the remainder of the charter term, which expires on February 17, 2010.

DATES: Appointments will be made on a rolling basis. For that reason, nominations will be accepted through February 17, 2010.

ADDRESSES: Submit nominations to Ingrid V. Mitchem, Director, Industry Trade Advisory Center, U.S. Department of Commerce, 14th and Constitution Avenue, NW., Room 4043, Washington, DC 20230.

FOR FURTHER INFORMATION CONTACT: Ingrid V. Mitchem, Director, Industry Trade Advisory Center, (202) 482-3268.

Recruitment information also is available on the International Trade Administration Web site at: www.ita.doc.gov/itac.

SUPPLEMENTARY INFORMATION: Pursuant to the Federal Advisory Committee Act (5 U.S.C. appendix 2), and section 135 of the Trade Act of 1974, as amended (19 U.S.C. 2155), the Secretary of Commerce (the Secretary) and the United States Trade Representative (USTR) have renewed the charters of 16 Industry Trade Advisory Committees (ITACs) and the Committee of Chairs of the ITACs. The Secretary and the USTR welcome nominations for the ITACs listed below:

• Industry Trade Advisory Committees on:

(ITAC 1) Aerospace Equipment

(ITAC 2) Automotive Equipment and Capital Goods

(ITAC 3) Chemicals, Pharmaceuticals, Health/Science Products and Services

(ITAC 4) Consumer Goods

(ITAC 5) Distribution Services

(ITAC 6) Energy and Energy Services

(ITAC 7) Forest Products

(ITAC 8) Information and Communications Technologies, Services, and Electronic Commerce

(ITAC 9) Nonferrous Metals and Building Materials

(ITAC 10) Services and Finance

(ITAC 11) Small and Minority Business

(ITAC 12) Steel

(ITAC 13) Textiles and Clothing

(ITAC 14) Customs Matters and Trade Facilitation

(ITAC 15) Intellectual Property Rights

(ITAC 16) Standards and Technical Trade Barriers

Background

Section 135 of the Trade Act of 1974, as amended (19 U.S.C. 2155), established a private-sector trade advisory system to ensure that U.S. trade policy and trade negotiation objectives adequately reflect U.S. commercial and economic interests. Section 135(a)(1) directs the President to:

Seek information and advice from representative elements of the private sector and the non-Federal governmental sector with respect to—

(A) negotiating objectives and bargaining positions before entering into a trade agreement under [title I of the Trade Act of 1974 and section 2103 of the Bipartisan Trade Promotion Authority Act of 2002];

(B) the operation of any trade agreement once entered into, including preparation for dispute settlement panel proceedings to which the United States is a party; and

(C) other matters arising in connection with the development, implementation, and administration of the trade policy of the United States * * *

Section 135(c)(2) of the 1974 Trade Act provides that:

(2) The President shall establish such sectoral or functional advisory committees as may be appropriate. Such committees shall, insofar as is practicable, be representative of all industry, labor, agricultural, or service interests (including small business interests) in the sector or functional areas concerned. In organizing such committees, the United States Trade Representative and the Secretaries of Commerce, Labor, Agriculture, the Treasury, or other executive departments, as appropriate, shall—

(A) consult with interested private organizations; and

(B) take into account such factors as—

(i) patterns of actual and potential competition between United States industry and agriculture and foreign enterprise in international trade,

(ii) the character of the nontariff barriers and other distortions affecting such competition,

(iii) the necessity for reasonable limits on the number of such advisory committees,

(iv) the necessity that each committee be reasonably limited in size, and

(v) in the case of each sectoral committee, that the product lines covered by each committee be reasonably related.

Pursuant to this provision, Commerce and USTR have established and co-administer 16 ITACs and the Committee of Chairs of the ITACs.

Functions

The duties of the ITACs are to provide the President, through the Secretary and the USTR, with advice on objectives and bargaining positions for multilateral trade negotiations, bilateral and regional trade negotiations, and other trade-related policy matters. The Committees provide nonpartisan, industry input in the development of trade policy objectives. The Committees' efforts have assisted the United States in putting forward unified positions when it negotiates trade agreements.

The ITACs address market-access problems; barriers to trade; tariff levels; discriminatory foreign procurement practices; and information, marketing, advocacy needs of their sector. Thirteen ITACs provide advice and information on issues that affect specific sectors of U.S. industry. Three ITACs focus on cross-cutting, functional issues that affect all industry sectors: customs matters and trade facilitation (ITAC 14); intellectual property rights (ITAC 15); and standards and technical trade barriers (ITAC 16). In addition to members appointed exclusively to these three ITACs, ITACs 1—13 each may select a member to represent their ITAC on each of these three cross-cutting ITACs so that a broad range of industry perspectives is represented. Other trade policy issues, e.g., government procurement, subsidies, etc., are handled in ad hoc policy meetings.

Committees meet an average of six times a year in Washington, DC. Some ITACS meet more often depending on the work of a particular committee.

Membership

Members serve without compensation and are responsible for all expenses incurred to attend the meetings. ITAC members are appointed jointly by the Secretary of Commerce and the USTR. Appointments are made at the chartering of each Committee and periodically throughout the four-year charter term. Members serve at the discretion of the Secretary and the USTR. Appointments to an ITAC expire at the end of the Committee's charter term, in this case, February 17, 2010.

Each Committee elects a chairperson from the membership of the Committee, and that chairperson serves on the Committee of Chairs of the ITACs.

Eligibility

Eligibility for membership on any Committee is limited to U.S. citizens who are not full-time employees of a governmental entity and are not registered with the Department of Justice under the Foreign Agents Registration Act. Members must represent a U.S. entity that (a) is directly engaged in the import or export of goods or that sells its services abroad, or (b) is an association of such entities. For purposes of the preceding sentence, a “U. S. entity” is an organization incorporated in the United States (or if unincorporated, having its principal place of business in the United States) that is controlled by U.S. citizens or by another U.S. entity. An entity is not a U.S. entity if 50 percent plus one share of its stock (if a corporation, or a similar ownership interest of an unincorporated entity) is controlled, directly or indirectly, by non-U.S. citizens or non-U.S. entities. If the nominee is to represent an entity or corporation with ten percent or greater non-U.S. ownership, the nominee must demonstrate at the time of nomination that this ownership interest does not constitute control and will not adversely affect his or her ability to serve as a trade advisor to the United States.

In addition to the industry representatives, the ITACs on Chemicals, Pharmaceuticals, Health/Science Products and Services (ITAC 3) and on Forest Products (ITAC 7) have environmental representatives. The Secretary of Commerce and the USTR also are soliciting nominations for the appointment of public health or health care community representatives to the ITACs on Chemicals, Pharmaceuticals, Health/Science Products and Services (ITAC 3) and on Intellectual Property Rights (ITAC 15). Commerce solicited nominations for public health or health care community representatives in December 2005 (70 FR 74776, Dec. 16, 2005). Commerce is still in the process of considering nominations received in response to that solicitation. Anyone who submitted a nomination in response to that announcement does not need to submit an additional nomination in response to this broader announcement. Environmental representatives and public health and health care community representatives must represent a U.S. entity interested in issues relevant to the work of the specific ITAC. A nongovernmental organization is a “U.S. entity” if the organization is (1) Incorporated in the United States (or, if unincorporated, having its headquarters in the United States), (2) the organization is controlled by U.S. citizens or by another U.S. entity, and (3) at least 50 percent of the organization's annual revenue is attributable to nongovernmental U.S. sources. Regarding the controlled by factor, a nongovernmental organization is not a U.S. entity if more than 50 percent of its Board of Directors or membership is made up of non-U.S. citizens. If the nominee is to represent an organization more than ten percent of whose Board of Directors or membership is made up of non-U.S. citizens or non-U.S. entities, the nominee must demonstrate at the time of nomination that this non-U.S. interest does not constitute control and will not adversely affect his or her ability to serve as a trade advisor to the United States.

Members are selected to represent their respective sponsoring U.S. entity's interests on trade matters and thus nominees are considered foremost based upon their ability to carry out the goals of section 135(c) of the Trade Act of 1974, as amended. Other criteria are the nominee's knowledge of and expertise in international trade issues as relevant to the work of the committee and ensuring that the Committees are balanced in terms of sectors, product lines, demographics, geographic representation, and company size. Appointments to all ITACs are made without regard to political affiliation. All ITAC members must be able to obtain and maintain a security clearance.

Application Procedures

For consideration, a nominee should send (1) A sponsor letter, (2) a resume, with demonstrated knowledge of international trade issues, and (3) company or organization information to the Director, Industry Trade Advisory Center, U.S. Department of Commerce, 14th and Constitution Avenue, NW., Room 4043, Washington, DC 20230. Sponsor letters must be on the company or organization letterhead. Company or organization information must address the activities, products, or services of the U.S. entity to be represented and certify that the entity is a U.S. entity as defined in the Eligibility section above. Additional requirements exist for nominations of consultants, legal advisors, and trade associations. The specific requirements will vary depending on the nature of the organization and interests to be represented. Interested consultants, legal advisors, and trade associations should contact the Industry Trade Advisory Center or consult the ITAC Web site for additional information on the submission requirements.

This notice is issued pursuant to the Federal Advisory Committee Act (5 U.S.C., app. 2), 19 U.S.C. 2155, and 21 CFR part 14 relating to advisory committees.

Dated: April 6, 2006.
Jack McDougle,
Acting Assistant Secretary for Manufacturing and Services.

[FR Doc. E6-5421 Filed 4-11-06; 8:45 am]

BILLING CODE 3510-DR-P